DEPARTMENT OF JUSTICE

Drug Enforcement Administration

[Docket No. DEA-392]

Importer of Controlled Substances Registration

ACTION: Notice of registration.

SUMMARY: Registrants listed below have applied for and been granted registration by the Drug Enforcement Administration (DEA) as importers of various classes of schedule I or II controlled substances.

SUPPLEMENTARY INFORMATION: The companies listed below applied to be registered as importers of various basic classes of controlled substances. Information on previously published notices are listed in the table below. No comments or objections were submitted and no requests for hearing were submitted for these notices.

Company | FR Docket | Published
AMRI Rensselaer, Inc | 83 FR 15176 | April 9, 2018.
S&B Pharma, Inc | 83 FR 31421 | July 5, 2018.
Cerilliant Corporation | 83 FR 32906 | July 16, 2018.
Shertech Laboratories, LLC | 83 FR 34879 | July 23, 2018.
Fresenius Kabi USA, LLC | 83 FR 34878 | July 23, 2018.
VHG Labs DBA LGC Standards | 83 FR 34875 | July 23, 2018.
Catalent Pharma Solutions, LLC | 83 FR 34874 | July 23, 2018.
Fisher Clinical Services, Inc | 83 FR 34879 | July 23, 2018.
Anderson Brecon, Inc | 83 FR 37525 | August 1, 2018.

The DEA has considered the factors in 21 U.S.C. 823, 952(a) and 958(a) and determined that the registration of the listed registrants to import the applicable basic classes of schedule I or II controlled substances is consistent with the public interest and with United States obligations under international treaties, conventions, or protocols in effect on May 1, 1971.

The DEA investigated each company's maintenance of effective controls against diversion by inspecting and testing each company's physical security systems, verifying each company's compliance with state and local laws, and reviewing each company's background and history.

Therefore, pursuant to 21 U.S.C. 952(a) and 958(a), and in accordance with 21 CFR 1301.34, the DEA has granted a registration as an importer for schedule I or II controlled substances to the above listed companies.

Dated: September 20, 2018.
John J. Martin,
Assistant Administrator.

[FR Doc. 2018-21354 Filed 10-1-18; 8:45 am]

BILLING CODE 4410-09-P